DEPARTMENT OF TRANSPORTATION

Federal Aviation Administration

14 CFR Part 39

[Docket No. FAA-2007-0044; Directorate Identifier 2007-NM-126-AD; Amendment 39-15320; AD 2007-26-18]

RIN 2120-AA64

Airworthiness Directives; BAE Systems (Operations) Limited Model BAe 146 and Avro 146-RJ Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as: “An accumulator cylinder had material defects and suffered an in-flight burst failure causing damage to the aircraft structure.” We are issuing this AD to require actions to correct the unsafe condition on these products.

DATES: This AD becomes effective February 11, 2008.

The Director of the Federal Register approved the incorporation by reference of certain publications listed in this AD as of February 11, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Todd Thompson, Aerospace Engineer, International Branch, ANM-116, FAA, Transport Airplane Directorate, 1601 Lind Avenue, SW., Renton, Washington 98057-3356; telephone (425) 227-1175; fax (425) 227-1149.

SUPPLEMENTARY INFORMATION:

Discussion

We issued a notice of proposed rulemaking (NPRM) to amend 14 CFR part 39 to include an AD that would apply to the specified products. That NPRM was published in the Federal Register on October 17, 2007 (72 FR 58774). That NPRM proposed to correct an unsafe condition for the specified products. The MCAI states:

An accumulator cylinder had material defects and suffered an in-flight burst failure causing damage to the aircraft structure. This resulted in the issue of EASA Emergency AD 2006-0061-E [we issued AD 2006-23-12 to address that EASA AD] that required the identification and check of cylinders from known suspect batches. Further investigations and checks by the accumulator manufacturer have concluded that all cylinders from a particular supplier may not have been correctly inspected at manufacture. To prevent the risk of further failures, this Airworthiness Directive (AD) requires all accumulators with cylinders from this supplier to be identified and inspected prior to re-installation.

The corrective action includes replacing any accumulator found to have a defect. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 1 product of U.S. registry. We also estimate that it will take about 4 work-hours per product to comply with the basic requirements of this AD. The average labor rate is $80 per work-hour. Based on these figures, we estimate the cost of this AD to the U.S. operators to be $320, or $320 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-26-18 BAE Systems (Operations) Limited (Formerly British Aerospace Regional Aircraft): Amendment 39-15320. Docket No. FAA-2007-0044; Directorate Identifier 2007-NM-126-AD.

Effective Date

(a) This airworthiness directive (AD) becomes effective February 11, 2008.

Affected ADs

(b) None.

Applicability

(c) This AD applies to BAE Systems (Operations) Limited Model BAe 146-100A, -200A, and -300A series airplanes; and Model Avro 146-RJ70A, 146-RJ85A, and 146-RJ100A airplanes; certificated in any category, all models, all serial numbers.

Subject

(d) Air Transport Association (ATA) of America Code 29: Hydraulic power.

Reason

(e) The mandatory continuing airworthiness information (MCAI) states:

An accumulator cylinder had material defects and suffered an in-flight burst failure causing damage to the aircraft structure. This resulted in the issue of EASA Emergency AD 2006-0061-E [we issued AD 2006-23-12 to address that EASA AD] that required the identification and check of cylinders from known suspect batches. Further investigations and checks by the accumulator manufacturer have concluded that all cylinders from a particular supplier may not have been correctly inspected at manufacture. To prevent the risk of further failures, this Airworthiness Directive (AD) requires all accumulators with cylinders from this supplier to be identified and inspected prior to re-installation.

The corrective action includes replacing any accumulator found to have a defect.

Actions and Compliance

(f) Unless already done, do the following actions.

(1) Within 30 months after the effective date of this AD, identify the installed accumulator in accordance with paragraph 2.C. of BAE Systems (Operations) Limited Inspection Service Bulletin ISB.29-047, dated October 3, 2006, which makes reference to APPH Service Bulletin AIR91666-29-03, dated July 2006.

(2) When an accumulator is identified as being affected by this AD, before further flight after accomplishing the actions required in paragraph (f)(1) of this AD, remove the accumulator in accordance with paragraph 2.D. of BAE Systems (Operations) Limited Inspection Service Bulletin ISB.29-047, dated October 3, 2006, and do a magnetic particle inspection of the cylinder for any defects in accordance with the Accomplishment Instructions of APPH Service Bulletin AIR91666-29-03, dated July 2006.

(3) If any defect is found during the inspection required in paragraph (f)(2) of this AD, before next flight, replace the accumulator with a serviceable unit in accordance with the Accomplishment Instructions of APPH Service Bulletin AIR91666-29-03, dated July 2006.

(4) After the effective date of this AD, no person may install a spare accumulator identified by APPH Service Bulletin AIR91666-29-03, dated July 2006, as a replacement part, unless it has been inspected in accordance with APPH Service Bulletin AIR91666-29-02, dated March 2006; or APPH Service Bulletin AIR91666-29-03, dated July 2006 (see second Note in paragraph 1.D.(1) of BAE Systems (Operations) Limited Inspection Service Bulletin ISB.29-047, dated October 3, 2006, for further explanation).

FAA AD Differences

Note: This AD differs from the MCAI and/or service information as follows:

(1) Where the MCAI specifies to identify the installed accumulator within 6 weeks after the effective date of the AD, we have determined that the identification may be done within 30 months after the effective date of this AD to coincide with the compliance time for the magnetic particle inspection. In making this determination, we considered the maximum interval of time allowable for all affected airplanes to continue to operate without compromising safety, fleet usage, and the availability of replacement parts.

Other FAA AD Provisions

(g) The following provisions also apply to this AD:

(1) Alternative Methods of Compliance (AMOCs): The Manager, ANM-116, International Branch, Transport Airplane Directorate, FAA, has the authority to approve AMOCs for this AD, if requested using the procedures found in 14 CFR 39.19. Send information to ATTN: Todd Thompson, Aerospace Engineer, International Branch, ANM-116, FAA, Transport Airplane Directorate, 1601 Lind Avenue, SW., Renton, Washington 98057-3356; telephone (425) 227-1175; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2007-0076, dated March 21, 2007, and the service information listed in Table 1 of this AD for related information.

Table 1.—Service Information
Service Bulletin | Date
APPH Service Bulletin AIR91666-29-02 | March 2006.
APPH Service Bulletin AIR91666-29-03 | July 2006.
BAE Systems (Operations) Limited Inspection Service Bulletin ISB.29-047 | October 3, 2006.

Material Incorporated by Reference

(i) You must use the service information specified in Table 2 of this AD to do the actions required by this AD, unless the AD specifies otherwise.

(1) The Director of the Federal Register approved the incorporation by reference of this service information under 5 U.S.C. 552(a) and 1 CFR part 51.

(2) For service information identified in this AD, contact British Aerospace Regional Aircraft American Support 13850 Mclearen Road, Herndon, Virginia 20171; and APPH Ltd., Engineering Division, Unit 1, Pembroke Court, Chancellor Road, Manor Park, Runcorn, Cheshire, WA7 1TG, England, United Kingdom.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Table 2.—Material Incorporated by Reference
Service Bulletin | Date
APPH Service Bulletin AIR91666-29-03 | July 2006.
BAE Systems (Operations) Limited Inspection Service Bulletin ISB.29-047 | October 3, 2006.

Issued in Renton, Washington, on December 20, 2007.
Ali Bahrami,
Manager, Transport Airplane Directorate, Aircraft Certification Service.

[FR Doc. E7-25479 Filed 1-4-08; 8:45 am]

BILLING CODE 4910-13-P